NATIONAL TRANSPORTATION SAFETY BOARD

Sunshine Act Meetings

TIME AND DATE: 9:30 a.m., Tuesday, April 28, 2020.

PLACE: Virtual.

STATUS: The one item may be viewed by the public through webcast only.

MATTERS TO BE CONSIDERED:

64907 Marine Accident Report—Sinking of Amphibious Passenger Vessel Stretch Duck 7, Table Rock Lake, near Branson, Missouri, July 19, 2018.

CONTACT PERSON FOR MORE INFORMATION: Candi Bing at (202) 590-8384 or by email at bingc@ntsb.gov.

Media Information Contact: Keith Holloway by email at keith.holloway@ntsb.gov or at (202) 314-6100.

This meeting will take place virtually. The public may view it through a live or archived webcast by accessing a link under “Webcast of Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: April 17, 2020.
LaSean R. McCray,
Assistant Federal Register Liaison Officer.

[FR Doc. 2020-08523 Filed 4-17-20; 11:15 am]

BILLING CODE 7533-01-P